DEPARTMENT OF TRANSPORTATION

Maritime Administration

[Docket No. MARAD-2018-0085]

Request for Comments on the Renewal of a Previously Approved Information Collection: Application and Reporting Elements for Participation in the Maritime Security Program

AGENCY: Maritime Administration.

ACTION: Notice and request for comments.

SUMMARY: In compliance with the Paperwork Reduction Act of 1995, this notice announces that the Information Collection Request (ICR) abstracted below is being forwarded to the Office of Management and Budget (OMB) for review and comments. The information to be collected will be used to determine if selected vessels are qualified to participate in the Maritime Security Program. A Federal Register Notice with a 60-day comment period soliciting comments on the following information collection was published on February 12, 2018, (Federal Register 6086, Vol. 83, No. 29).

DATES: Comments must be submitted on or before June 22, 2018.

ADDRESSES: Send comments regarding the burden estimate, including suggestions for reducing the burden, to the Office of Management and Budget, Attention: Desk Officer for the Office of the Secretary of Transportation, 725 17th Street NW, Washington, DC 20503. Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: William McDonald, 202-366-0688, Office of Sealift Support, Maritime Administration, U.S. Department of Transportation, 1200 New Jersey Avenue SE, Room W23-308, Washington, DC 20590.

SUPPLEMENTARY INFORMATION:

Title: Application and Reporting Elements for Participation in the Maritime Security Program.

OMB Control Number: 2133-0525.

Type of Request: Renewal of a Previously Approved Information Collection.

Abstract: The Maritime Security Act of 2003 extended under Section 3508 of the National Defense Authorization Act for Fiscal Year 2013, Public Law 112-239 provides for the enrollment of qualified vessels in the Maritime Security Program Fleet. Applications and amendments are used to select vessels for the fleet. Periodic reporting is used to monitor adherence of contractors to program parameters.

Respondents: Vessel operators.

Affected Public: Business or other for Profit.

Estimated Number of Respondents: 15.

Estimated Number of Responses: 212.

Annual Estimated Total Annual Burden Hours: 308.

Frequency of Response: Monthly/Annually.

(Authority: The Paperwork Reduction Act of 1995; 44 U.S.C. Chapter 35, as amended; and 49 CFR 1.93.)

* * * * *

By Order of the Maritime Administrator.
Dated: May 18, 2018.
T. Mitchell Hudson, Jr.,
Secretary, Maritime Administration.

[FR Doc. 2018-11070 Filed 5-22-18; 8:45 am]

BILLING CODE 4910-81-P